DEPARTMENT OF TRANSPORTATION

Office of the Secretary

Notice of Applications for Certificates of Public Convenience and Necessity and Foreign Air Carrier Permits Filed Under Subpart B (Formerly Subpart Q) During the Week Ending January 11, 2014

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0004.

Date Filed: January 9, 2014.

Due Date for Answers, Conforming Applications, or Motion To Modify Scope: January 30, 2014.

Description: Application of Pentastar Aviation Charter Inc. (PACI) requesting authority to conduct interstate air transportation without limitation within the United States, using planeload domestic and interstate passenger flights for five (5) or more flight between the same points per week.

Barbara J. Hairston,
Supervisory Dockets Officer, Docket Operations, Federal Register Liaison.

[FR Doc. 2014-01567 Filed 1-27-14; 8:45 am]

BILLING CODE 4910-9X-P